DEPARTMENT OF COMMERCE

National Oceanic and Atmospheric Administration

RIN 0648-XG483

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, October 1, 2018 through Thursday, October 4, 2018. For agenda details, see SUPPLEMENTARY INFORMATION.

ADDRESSES: The meeting will be held at the Congress Hall, 200 Congress Place, Cape May, NJ 08204, telephone: (609) 884-8421.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda; though agenda items may be addressed out of order (changes will be noted on the Council's website when possible.)

Monday, October 1, 2018

Executive Committee

Review 2018 and proposed 2019 implementation plans and develop recommendations for 2019 priorities.

Tuesday, October 2, 2018

Spiny Dogfish Specifications

Develop and approve 2019-21 specifications.

Annual Update on GARFO/NEFSC Fishery Dependent Data Initiative Project (FDDI)

FDDI overview, update, potential expansion, and enhancement of electronic vessel trip reporting.

Ecosystem Approach to Fisheries Management Risk Assessment

Review of Ecosystems and Ocean Planning Committee (EOP) meeting and recommendations; identify high-risk priorities and determine next steps; overview of EOP Committee comments on draft Northeast Regional Ecosystems-Based Fishery Management Implementation Plan.

Risk Policy Framework

Update on summer flounder economic Risk Policy analysis and discuss next steps on Risk Policy Framework.

2020-24 Strategic Plan

Discuss timeline and approach.

Wednesday, October 3, 2018

Squids and Butterfish Specifications

Review 2019-20 specifications and adopt modifications if needed.

Industry Funded Monitoring Amendment

Review history, pilot electronic monitoring results, and New England actions and discuss next steps.

Illex Amendment

Review and approve scoping document.

Chub Mackerel Amendment

Review Fishery Management Action Team, Advisory Panel, and Committee recommendations for range of alternatives, review, and approve public hearing document.

Thursday, October 4, 2018

South East Regional Office (SERO) Party/Charter Reporting Requirement

Presentation on pending electronic reporting requirements for vessels with for-hire South Atlantic federal permits.

HMS Permits and Law Enforcement Issues

Discuss how permits are issued with respect to USCG safety regulations and law enforcement responsibilities of the USCG and NOAA.

Business Session

Committee Reports (SSC); Executive Director's Report (Summer Flounder, Scup, and Black Sea Bass Framework and addendum on conservation equivalency, Block Island Sound transit, and slot limits and review and approve modification to alternatives); Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: September 11, 2018.
Tracey L. Thompson,
Acting Deputy Director, Office of Sustainable Fisheries, National Marine Fisheries Service.

[FR Doc. 2018-20028 Filed 9-13-18; 8:45 am]

BILLING CODE 3510-22-P